Title 3—

The President

Proclamation 9724 of April 11, 2018

Days of Remembrance of Victims of the Holocaust, 2018

By the President of the United States of America

A Proclamation

On Yom HaShoah, or Holocaust Remembrance Day, and during this week of remembrance, we reflect on one of the darkest periods in the history of the world and honor the victims of Nazi persecution. This year marks the 75th anniversary of the Warsaw Ghetto Uprising, when the imprisoned Polish Jews mounted a courageous and extraordinary act of armed resistance against their Nazi guards.

The Holocaust, known in Hebrew as “Shoah,” was the culmination of the Nazi regime's “Final Solution to the Jewish Question,” an attempt to eradicate the Jewish population in Europe. Although spearheaded by one individual, this undertaking could not have happened without the participation of many others who recruited, persuaded, and coerced in their efforts to incite the worst of human nature and carry out the ugliest of depravity. The abject brutality of the Nazi regime, coupled with the failure of Western leaders to confront the Nazis early on, created an environment that encouraged and enflamed anti-Semitic sentiment and drove people to engage in depraved, dehumanizing conduct.

By the end, the Nazis and their conspirators had murdered 6 million men, women, and children, simply because they were Jews. They also persecuted and murdered millions of other Europeans, including Roma and Sinti Gypsies, persons with mental and physical disabilities, Slavs and other minorities, Christians, Jehovah's Witnesses, gays, and political dissidents.

Let us continue to come together to remember all the innocent lives lost in the Holocaust, pay tribute to those intrepid individuals who resisted the Nazis in the Warsaw Ghetto, and recall those selfless heroes who risked their lives in order to help or save those of their persecuted neighbors. Their bravery inspires us to embrace all that is good about hope and resilience; their altruism reminds us of the importance of maintaining peace and unity, and of our civic duty never to remain silent or indifferent in the face of evil. We have a responsibility to convey the lessons of the Holocaust to future generations, and together as Americans, we have a moral obligation to combat antisemitism, confront hate, and prevent genocide. We must ensure that the history of the Holocaust remains forever relevant and that no people suffer these tragedies ever again.

NOW, THEREFORE, I, DONALD J. TRUMP, President of the United States of America, do hereby ask the people of the United States to observe the Days of Remembrance of Victims of the Holocaust, April 12 through April 19, 2018, and the solemn anniversary of the liberation of Nazi death camps, with appropriate study, prayers and commemoration, and to honor the memory of the victims of the Holocaust and Nazi persecution by internalizing the lessons of this atrocity so that it is never repeated.

IN WITNESS WHEREOF, I have hereunto set my hand this eleventh day of April, in the year of our Lord two thousand eighteen, and of the Independence of the United States of America the two hundred and forty-second.

[FR Doc. 2018-08038

Filed 4-13-18; 8:45 am]

Billing code 3295-F8-P